DEPARTMENT OF DEFENSE

Office of the Secretary

[Transmittal No. 24-05]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-05, Policy Justification, and Sensitivity of Technology.

Dated: December 16, 2024.
Stephanie J. Bost,
Alternate OSD Federal Register Liaison Officer, Department of Defense.

BILLING CODE 6001-FR-P

BILLING CODE 6001-FR-C

Transmittal No. 24-05

Notice of Proposed Issuance of Letter of Offer Pursuant to Section 36(b)(1) of the Arms Export Control Act, as amended

(i) Prospective Purchaser: Government of Italy

(ii) Total Estimated Value:

Major Defense Equipment * | $345 million
Other | $ 55 million
TOTAL | $400 million

(iii) Description and Quantity or Quantities of Articles or Services under Consideration for Purchase:

Major Defense Equipment (MDE):

Twenty-one (21) M142 High Mobility Artillery Rocket Systems (HIMARS)

One (1) M31A2 Guided Multiple Launch Rocket System Unitary (GMLRS-U) High Explosive (HE) Pods with Insensitive Munitions Propulsion System (IMPS)

Non-MDE:

Also included are Universal Fielding Modules; towbar toolkits and sets; crypto-fill cable; AN/PRC-158 Multi-Channel Tactical Radio installation kits; Multi-Channel AN/PRC-158 radios; RF-7800i-CU100 radio router; HARRIS installation kits for 160W high frequency (HF) radio system; HF AN/PRC-160W-HF radios; Simple Key Loader (SKL) AN/PYQ-10 (C); RF-7800i Tactical Intercom System installation kit; RF7800i Tactical Intercom System; Fire Control Panel Trainer (FCPT) hardware and software; Missile Common Test Device Trainer (MCTD-T), slim; Panasonic Toughbook ruggedized laptop with 30ft cables and power adapters and internal CD ROM drive; RF-7800i Tactical Intercom System training hardware; RF-7800i and CU100 training rigs, test equipment, and Golden System for operator and maintenance training; Launcher Adapter Group (LAG) and Sling; Launcher Control Unit (LCU); Weapons Control Unit (WCU); MCTD V.4 hardware and spares; MCTD V.4 software and publications; spare parts; Maintenance Support Device (MSD) V.4; Wireless AT-Platform Test Set (WATS); guided missile organizational tool kit; Hydraulic Servicing Unit (HSU); Interactive Electronic Technical Manual (IETM) development; Direct Support (DS)/General Support (GS) tool kits; Gas Particulate Filter Unit (GPFU); Forward Repair System (FRS); Positioning Navigation Assembly (PNA) with Selective Availability Anti-Spoofing Module (SAASM) Global Positioning System/Precise Positioning Service (GPS/PPS); Common MLRS SPORT Test Program Set (CMST) hardware and software development; mobile Standard Automotive Tool Set (SATS); RF7800i Tactical Intercom System spare package; Technical Manual Unit organizational Repair Parts and Special Tools List (RPSTL); Technical Manual operator's manual; Launch POD/container (LP/C) trainer M68A2; GMLRS-U flight surveillance kit; and other related elements of program and logistic support.

(iv) Military Department: Army (IT-B-YDQ)

(v) Prior Related Cases, if any: IT-B-PSX

(vi) Sales Commission, Fee, etc., Paid, Offered, or Agreed to be Paid: None

(vii) Sensitivity of Technology Contained in the Defense Article or Defense Services Proposed to be Sold: See Attached Annex

(viii) Date Report Delivered to Congress: December 15, 2023

*As defined in Section 47(6) of the Arms Export Control Act.

POLICY JUSTIFICATION

Italy—M142 High Mobility Artillery Rocket Systems (HIMARS)

The Government of Italy has requested to buy twenty-one (21) M142 High Mobility Artillery Rocket Systems (HIMARS); and one (1) M31A2 Guided Multiple Launch Rocket System Unitary (GMLRS-U) High Explosive (HE) Pods with Insensitive Munitions Propulsion System (IMPS). Also included are Universal Fielding Modules; towbar toolkits and sets; crypto-fill cable; AN/PRC-158 Multi-Channel Tactical Radio installation kits; Multi-Channel AN/PRC-158 radios; RF-7800i-CU100 radio router; HARRIS installation kits for 160W high frequency (HF) radio system; HF AN/PRC-160W-HF radios; Simple Key Loader (SKL) AN/PYQ-10 (C); RF-7800i Tactical Intercom System installation kit; RF7800i Tactical Intercom System; Fire Control Panel Trainer (FCPT) hardware and software; Missile Common Test Device Trainer (MCTD-T), slim; Panasonic Toughbook ruggedized laptop with 30ft cables and power adapters and internal CD ROM drive; RF-7800i Tactical Intercom System training hardware; RF-7800i and CU100 training rigs, test equipment, and Golden System for operator and maintenance training; Launcher Adapter Group (LAG) and Sling; Launcher Control Unit (LCU); Weapons Control Unit (WCU); MCTD V.4 hardware and spares; MCTD V.4 software and publications; spare parts; Maintenance Support Device (MSD) V.4; Wireless AT-Platform Test Set (WATS); guided missile organizational tool kit; Hydraulic Servicing Unit (HSU); Interactive Electronic Technical Manual (IETM) development; Direct Support (DS)/General Support (GS) tool kits; Gas Particulate Filter Unit (GPFU); Forward Repair System (FRS); Positioning Navigation Assembly (PNA) with Selective Availability Anti-Spoofing Module (SAASM) Global Positioning System/Precise Positioning Service (GPS/PPS); Common MLRS SPORT Test Program Set (CMST) hardware and software development; mobile Standard Automotive Tool Set (SATS); RF7800i Tactical Intercom System spare package; Technical Manual Unit organizational Repair Parts and Special Tools List (RPSTL); Technical Manual operator's manual; Launch POD/container (LP/C) trainer M68A2; GMLRS-U flight surveillance kit; and other related elements of program and logistic support. The estimated total program cost is $400 million.

This proposed sale will support United States (U.S.) foreign policy and national security by helping to improve the security of a North Atlantic Treaty Organization Ally which is an important partner for political stability and economic progress in Europe. Italy requests these capabilities to provide for the defense of deployed troops, regional security, and interoperability with the U.S.

The proposed sale will improve Italy's capability to meet current and future threats and enhance its interoperability with U.S. and other allied forces. Italy will have no difficulty absorbing this equipment into its armed forces.

The proposed sale of this equipment and support will not alter the basic military balance in the region.

The principal contractor will be Lockheed Martin, Grand Prairie, TX. There are no known offset agreements in connection with this potential sale.

Implementation of this proposed sale will require the assignment of 10 U.S. Government and 10 contractor representatives annually to Italy for a period of one week. U.S. Government or contractor representatives travel to Italy will be required for program management reviews and New Equipment Training.

There will be no adverse impact on U.S. defense readiness as a result of this proposed sale.

Transmittal No. 24-05

Notice of Proposed Issuance of Letter of Offer Pursuant to Section 36(b)(1) of the Arms Export Control Act

Annex

Item No. vii

(vii) Sensitivity of Technology:

1. The M142 High Mobility Artillery Rocket System (HIMARS) is a C-130-transportable wheeled launcher mounted on a 5-ton Family of Medium Tactical Vehicles truck chassis. HIMARS is the modern Army-fielded version of the Multiple Launch Rocket System (MLRS) M270 launcher and can fire all the MLRS Family of Munitions (FOM) including Guided Multiple Launch Rocket System (GMLRS) variants and the Army Tactical Missile System (ATACMS). Utilizing the MLRS FOM, the HIMARS can engage targets between 15 and 300 kilometers with GPS-aided precision accuracy.

2. The Guided Multiple Launch Rocket System (GMLRS) M31A2 Unitary is the Army's primary munition for units fielding the M142 HIMARS and M270Al Multiple Launcher Rocket System (MLRS) launchers. The M31 Unitary is a solid propellant artillery rocket that uses Global Positioning System/Precise Positioning Service (GPS/PPS)-aided inertial guidance to accurately and quickly deliver a single high-explosive blast fragmentation warhead to targets at ranges from 15-70 kilometers. The rockets are fired from a launch pod container that also serves as the storage and transportation container for the rockets. Each rocket pod holds six (6) total rockets.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Italy can provide the same degree of protection for the sensitive technology being released as the U.S. Government. This sale is necessary in furtherance of the U.S. foreign policy and national security objectives outlined in the Policy Justification.

6. All defense articles and services listed in this transmittal are authorized for release and export to Italy.

[FR Doc. 2024-30322 Filed 12-18-24; 8:45 am]

BILLING CODE 6001-FR-P